ENVIRONMENTAL PROTECTION AGENCY

[FRL-7920-2]

Announcement of the Board of Trustees for the National Environmental Education and Training Foundation, Inc.

Summary: The National Environmental Education and Training Foundation was created by section 10 of Public Law 101-619, the National Environmental Education Act of 1990. It is a private 501(c)(3) non-profit organization established to promote and support education and training as necessary tools to further environmental protection and sustainable, environmentally sound development. It provides the common ground upon which leaders from business and industry, all levels of government, public interest groups, and others can work cooperatively to expand the reach of environmental education and training programs beyond the traditional classroom. The Foundation supports a grant program that promotes innovative environmental education and training programs; it also develops partnerships with government and other organizations to administer projects that promote the development of an environmentally literal public.

The Administrator of the U.S. Environmental Protection Agency, as required by the terms of the Act, announces the following appointments to the National Environmental Education and Training Foundation, Inc. Board of Trustees. The appointees are Holly Cannon, a principal of the law firm Bevedridge & Diamond; and Raymond J. Ban, Executive Vice President, meteorology Science and Strategy, The Weather Channel, Inc. These appointees will join the current Board members which include:

• Braden Allenby, Vice President, Environment, Health and Safety, AT&T.

• Richard Bartlett, (NEETF Chairman) Vice Chairman, Mary Kay Holding Corporation.

• Dorothy Jacobson, Consultant

• Karen Bates Kress, President, KBK Consulting, Inc.

• Dorothy McSweeny, (NEETF Vice Chair), Chair, DC Commission on the Arts and Humanities.

• Honorable William Sessions, former Director of the Federal Bureau of Investigation.

Additional Considerations: Great care has been taken to assure that these new appointees not only have the highest degree of expertise and commitment, but also brings to the Board diverse points of view relating to environmental education and training. These appointments shall be for two consecutive four year terms.

For Further Information Contact: C. Michael Baker, Acting Director, Office of Environmental Education, Office of Public Affairs (1704A) U.S. EPA 1200 Pennsylvania Ave., NW., Washington, DC 20460.

Dated: May 25, 2005.
Stephen L. Johnson,
Administrator.

Biographies of New Members

Raymond J. Ban

Mr. Raymond Ban is Executive Vice President of the Meteorology Science and Strategy group at The Weather Channel, Inc. (TWC), which is responsible for the meteorological quality and integrity of all TWC's products and services, and for growing TWC's relationships with the weather community across the entire weather and climate enterprise.

He has been an active member of the American Meteorological Society (AMS) for over 30 years and was named a Fellow of the AMS in 1997. He holds both the Television Seal of Approval and Radio Seal of Approval from the Society. He recently completed six years in serving as Commissioner on Professional Affairs for the AMS. In 1996, he was named a Centennial Fellow of Penn State's College of Earth and Mineral Sciences. In 1998, he was named an Alumni Fellow of Penn State University, which recognizes the university's most outstanding alumni each year. Mr. Ban served on the Board of Atmospheric Science and Climate of the National Academy of Sciences from 2001-2004. He has also served as a member of the Inter-Governmental Working Group of the United States Weather Research Program and as President of the Alumni Board of the College of Earth and Mineral Sciences at Penn State.

Additionally, Mr. Ban is currently a member of the advisory board to the National Center for Atmospheric Research and the Societal Impacts Program and serves on The Board of Visitors of The College of Geosciences at the University of Oklahoma. He is Co-Chair of The Weather Coalition, an advocacy group that brings together industry, state and local governments, and academia in an organized effort to urge Congress and the Executive Branch to fund a national initiative to expand research collaborations between these groups and federal agencies in the area of mesoscale observations and predictions.

Mr. Ban graduated from the Pennsylvania State University in 1973 with a B.S. in Meteorology.

Holly Cannon

Holly Cannon is a principal of the law firm Beveridge & Diamond, P.C., and has been an attorney with the firm since 1981. She served as Managing Director from 1996 through 2001. Beveridge & Diamond, P.C. is a law firm of more than 85 attorneys in seven offices across the United States, with a nationwide practice that is focused on all aspects of environmental law and civil and criminal litigation.

As Managing Director, Ms. Cannon acted as chairman of the firm's management committee and chief executive officer of the law firm, with overall responsibility for supervision, direction and control of the firm's business. During her more than five-year term, Ms. Cannon restructured the firm's management committee, developed and implemented a three year strategic plan with financial performance goals that were achieved, and opened two new offices. She oversaw an increase in firm revenues by approximately one-third with a comparable increase in net profits.

In addition to her experience as the firm's Managing Director, Ms. Cannon has more than twenty years of experience in the private practice of law. Her legal practice focuses on environmental transactions and general environmental and corporate counseling. She regularly assists parties involved in corporate and real estate transactions to structure transactions in a manner that reflects the appropriate allocation of existing and potential environmental liabilities. She advises clients on environmental insurance matters, including environmental insurance products available for contaminated property transactions. In addition, she has assisted clients in establishing and evaluating their own environmental management systems to ensure that corporate-wide compliance is maintained.

She also has served as outside general counsel to both public and privately held corporate clients. Her work on general corporate matters includes both counseling and transactional matters, and she has extensive experience handling acquisitions and divestitures of stock and assets, with particular emphasis on environmentally sensitive industry segments. She served as a member of the Board of Directors of Resource Recycling Technologies, Inc., a former publicly held company engaged in solid waste materials management activities, including the design, construction and operation of material recycling facilities.

Combining her corporate and environmental backgrounds, she regularly assists business entities with public reporting obligations associated with existing and potential environmental liabilities, including work with a number of publicly-held companies on periodic environmental reporting required by the Securities and Exchange Commission. She has lectured on several occasions on the SEC's environmental reporting obligations, has addressed groups of corporate officials on environmental disclosure and related issues relevant to accountants and other corporate finance officials, and has published articles on these and similar topics.

Ms. Cannon graduated from the University of Alabama in 1978 with a B.S. in Management, summa cum laude, and received her law degree from Georgetown University, cum laude, in 1981.

[FR Doc. 05-10852 Filed 5-31-05; 8:45 am]

BILLING CODE 6560-50-P